DEPARTMENT OF COMMERCE

Foreign-Trade Zones Board

[T-1-2007]

Foreign-Trade Zone 38 - Spartanburg County, SC, Application for Temporary/Interim Manufacturing Authority, Kittel Supplier USA, Inc. (Automotive Door Trim Components), Notice of Approval

On March 12, 2007, an application was filed by the Executive Secretary of the Foreign-Trade Zones (FTZ) Board submitted by the South Carolina State Ports Authority, grantee of FTZ 38, requesting temporary/interim manufacturing (T/IM) authority on behalf of Kittel Supplier USA, Inc., to assemble automotive door trim components under FTZ procedures within FTZ 38-Site 3, Duncan, South Carolina.

The application has been processed in accordance with T/IM procedures, as authorized by FTZ Board Orders 1347 (69 FR 52857, 8-30-2004) and 1480 (71 FR 55422, 9-22-2006), including notice in the Federal Register inviting public comment (72 FR 13081, 3-20-2007). The FTZ staff examiner reviewed the application and determined that it meets the criteria for approval under T/IM procedures. The foreign-origin components approved for this activity are: window frames (HTSUS 8708.29); B, C and D-pillar trim (8708.29); division bars (8708.29); metal clips (8302.30); and, rubber seals (4016.93). Pursuant to the authority delegated to the FTZ Board Executive Secretary in the above-referenced Board Orders, the application is approved, effective this date, until May 4, 2009, subject to the FTZ Act and the Board's regulations, including Section 400.28.

Dated: May 4, 2007.
Andrew McGilvray,
Executive Secretary.

[FR Doc. E7-9326 Filed 5-14-07; 8:45 am]

BILLING CODE 3510-DS-S